ENVIRONMENTAL PROTECTION AGENCY

40 CFR Part 52

[EPA-R05-OAR-2021-0477; FRL-9848-01-R5]

Air Plan Approval; Indiana; Volatile Organic Compounds; Cold Cleaner Degreasing

AGENCY: Environmental Protection Agency (EPA).

ACTION: Proposed rule.

SUMMARY: The Environmental Protection Agency (EPA) is proposing to approve revisions to the volatile organic compound (VOC) rules contained in the Indiana State Implementation Plan (SIP). Indiana modified its rules to provide an additional option for compliance with the volatile organic compound (VOC) vapor pressure limit for solvents used in cold cleaning degreasing operations. In addition, rule language was updated for clarity and consistency.

DATES: Comments must be received on or before September 29, 2023.

ADDRESSES: Submit your comments, identified by Docket ID No. EPA-R05-OAR-2021-0477 at https://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. Background

On July 14, 2021, Indiana submitted a request to revise the VOC rules in its SIP. The revisions are to the 326 Indiana Administrative Code (IAC) Article 8 Volatile Organic Compound rules. Indiana submitted revisions to the following: 326 IAC 8-3-1, “Applicability and exemptions”; 326 IAC 8-3-2, “Cold cleaner degreaser control equipment and operating requirements”; 326 IAC 8-3-3, “Open top vapor degreaser operation”; 326 IAC 8-3-4, “Conveyorized degreaser control equipment and operating requirements”; and 326 IAC 8-3-8, “Material requirements for cold cleaner degreasers”.

Indiana's July 14, 2021, submission, included a previous version of 326 IAC 8-3-1, effective on June 9, 2021. EPA found concerns with that version of 326 IAC 8-3-1(a)(1) as it added qualifying language so that the rules would only apply to sources “with the potential to emit VOC emissions of greater than or equal to fifteen (15) pounds per day.” This would constitute a relaxation of the Clean Air Act (CAA) requirement for VOC reasonably available control technology.¹

¹ EPA has made it clear that general exemptions for small cold cleaner degreasing operations are not allowed. See Memorandum from Richard Rhoads, EPA OAQPS, to Director, Air and Hazardous Materials Division, Regions I to X, Clarification of Degreasing Regulation Requirements, September 7, 1978. See 2-24, Solvent Metal Cleaning, in the “Issues Relating to VOC Regulation Cut Points, Deficiencies, And Deviations” guidance, as revised on January 11, 1990.

On January 23, 2023, Indiana submitted a revised version of 326 IAC 8-3-1, effective January 4, 2023, which removed the exemption language from 326 IAC 8-3-1(a)(1).

Indiana's current SIP VOC rules require sources operating cold cleaning degreasers to, among other things, use low vapor pressure solvent, not to exceed 1 millimeter of mercury (mm Hg) at 20 degrees Celsius, for cleaning or degreasing machine parts. These low vapor pressure solvents do not work well for some industries. These rules also allow sources to operate control systems that demonstrate equivalent or better emissions control with approval from both Indiana and EPA.

Indiana revised the control requirements for sources that use a solvent with a vapor pressure exceeding 1 mm Hg in 326 IAC 8-3-3, 326 IAC 8-3-4, and 326 IAC 8-3-8. The revised rules require VOC emission control with a capture efficiency of at least 90 percent. The control device must also either have at least a 90 percent destruction efficiency or have a VOC emission outlet concentration of less than 50 parts per million by volume. Indiana's rules also require compliance procedures. The changes replace the previously approved provision allowing an alternate VOC emission control system with approval of both Indiana and EPA in 326 IAC 8-3-3 and 326 IAC 8-3-4. This VOC control system requirement is an additional option in 326 IAC 8-3-8.

Indiana noted that, for some companies, the use of low vapor pressure solvents under 1 mm Hg results in poor performance and solvent contamination. Such sources cannot recycle the solvent because of the potential contamination. Such sources will thus often hand-clean machine parts, which results in all the solvent evaporating and thus being emitted into the air. Indiana further noted that hand-cleaning also produces a large amount of material that usually must be managed as hazardous waste, as the rags are contaminated with solvent and ink. Instead, the revised rules set parameters for control systems that specify standard VOC capture and control requirements for all users, which are expected to reduce the amount of solvent used and the amount of hazardous waste generated.

II. What is EPA's analysis of the VOC rule revisions?

EPA considered the revisions in the latest version of 326 IAC 8-3-1 along with previously submitted revisions to 326 IAC 8-3-2, 326 IAC 8-3-3, 326 IAC 8-3-4, and 326 IAC 8-3-8 for approval into the Indiana SIP.

EPA finds it reasonable to replace the provision that allows sources to submit a source-specific alternate for SIP approval with the VOC control requirements added to 326 IAC 8-3-3, 326 IAC 8-3-4, and 326 IAC 8-3-8. The result is that cold cleaner degreasing operations electing to use solvents with a vapor pressure exceeding 1 mm Hg will all have the same VOC control requirement. EPA finds that Indiana's revisions to 326 IAC 8-3-2, 326 IAC 8-3-3, 326 IAC 8-3-4, and 326 IAC 8-3-8 are consistent with EPA guidance. Therefore, EPA is proposing to approve these VOC rule revisions.

Indiana revised several portions of 326 IAC 8-3-2, which provides the general requirements for its “Cold cleaner degreaser control equipment and operating requirements.” Indiana revised 326 IAC 8-3-2(b)(1)(E) to allow a control system that is approved by Indiana and EPA to use the VOC emission control equipment required by 326 IAC 8-3-8(b)(3). Indiana also added the requirement that solvent spray must be performed in an enclosed chamber to 326 IAC 8-3-2(b)(3). The addition of an enclosed chamber is expected to capture more VOC emissions that can be exhausted to the control device.

Indiana made administrative changes to 326 IAC 8-3-1 ² after removing the qualifying language that caused a concern. Further, Indiana made administrative revisions to 326 IAC 8-3-2, such as changing “ensure” to “comply with,” “could” to “would,” and renumbering subsections. Indiana made additional administrative revisions to the following, to make them consistent with its revised control requirements: 326 IAC 8-3-3, “Open top vapor degreaser operation”, 326 IAC 8-3-4, “Conveyorized degreaser control equipment and operating requirements”, and 326 IAC 8-3-8, “Material requirements for cold cleaner degreasers.” These administrative revisions do not change the intent or stringency of the rule.

² The version of 326 IAC 8-3-1 effective on January 4, 2023.

EPA evaluated the revisions under CAA 110(l) to determine whether the revisions would be expected to interfere with attainment and reasonable further progress of air quality standards. Indiana added control requirements for cold cleaning degreasing operations that use a solvent with a vapor pressure exceeding 1 mm Hg. As Indiana noted, many such sources would have additional VOC emissions from solvent contamination and hand cleaning of parts if required to instead use a solvent with a vapor pressure not exceeding 1 mm Hg. Indiana also removed the 15 pounds VOC per day exemption. Thus, under the revised rules all sources are now required to limit VOC emissions and a control device is now also required for certain sources. EPA expects the same or better VOC control from cold cleaning degreasing operations under the revised rules. The emission limits of criteria pollutants remain unchanged. EPA does not find any reason to expect interference with attainment of any air quality standard.

III. What action is EPA taking?

EPA is proposing to approve Indiana's VOC control rule sections 326 IAC 8-3-1, 326 IAC 8-3-2, 326 IAC 8-3-3, 326 IAC 8-3-4, and 326 IAC 8-3-8 as revisions to the Indiana SIP.

IV. Incorporation by Reference

In this rule, EPA is proposing to include in a final EPA rule regulatory text that includes incorporation by reference. In accordance with requirements of 1 CFR 51.5, EPA is proposing to incorporate by reference Title 326 of the Indiana Administrative Code Article 8, Rule 3, Section 1 Applicability and exemptions, effective January 4, 2023; Section 2 Cold cleaner degreaser control equipment and operating requirements, effective June 9, 2021; Section 3 Open top vapor degreaser operation, effective June 9, 2021; Section 4 Conveyorized degreaser control equipment and operating requirements, effective June 9, 2021; and Section 8 Material requirements for cold cleaner degreasers, effective June 9, 2021, discussed in section II. of this preamble. EPA has made, and will continue to make, these documents generally available through www.regulations.gov and at the EPA Region 5 Office (please contact the person identified in the FOR FURTHER INFORMATION CONTACT section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993), 13563 (76 FR 3821, January 21, 2011), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

Indiana did not evaluate EJ considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Incorporation by reference, Intergovernmental relations, Reporting and recordkeeping requirements, Volatile organic compounds.

Dated: August 24, 2023.
Debra Shore,
Regional Administrator, Region 5.

[FR Doc. 2023-18705 Filed 8-29-23; 8:45 am]

BILLING CODE 6560-50-P